DEPARTMENT OF HEALTH AND HUMAN SERVICES

Substance Abuse and Mental Health Services Administration

Notice of Meeting

Pursuant to Public Law 92-463, notice is hereby given of the meeting of the Substance Abuse and Mental Health Services Administration's (SAMHSA) Center for Substance Abuse Treatment National Advisory Council on August 30, 2012.

A portion of the meeting is open to the public and will be held online via Live Meeting at https://www.mymeetings.com/nc/join. The meeting will include a discussion of the Center's current administrative, legislative, and program developments.

The meeting will also include the review, discussion and evaluation of grant applications reviewed by Initial Review Groups (IRGs). Therefore, a portion of the meeting will be closed to the public as determined by the SAMHSA Administrator, in accordance with Title 5 U.S.C. 552b(c)(6) and 5 U.S.C. App. 2, § 10(d).

Individuals interested in making oral comments or obtaining the meeting number and passcode are encouraged to notify Ms. Cynthia Graham, the Council's Designated Federal Official (see contact information below), on or before August 27, 2012. Substantive program information may be obtained after the meeting by accessing the SAMHSA Committee Web site http://nac.samhsa.gov, or by contacting the Designated Federal Official.

Committee Name: Substance Abuse and Mental Health Services Administration, Center for Substance Abuse Treatment National Advisory Council.

Date/Time/Type: August 30, 2012 10 a.m.-10:20 a.m. (CLOSED), 10:30 a.m.-2:15 p.m. (OPEN).

Place: Live meeting webcast.

Contact: Cynthia Graham, M.S., Designated Federal Official, SAMHSA/CSAT National Advisory Council, 1 Choke Cherry Road, Room 5-1035, Rockville, MD 20857, Telephone: (240) 276-1692, FAX: (240) 276-1690, Email: cynthia.graham@samhsa.hhs.gov.

Cathy J. Friedman,
Public Health Analyst, SAMHSA.

[FR Doc. 2012-20421 Filed 8-17-12; 8:45 am]

BILLING CODE 4162-20-P